DEPARTMENT OF EDUCATION

[Docket No.: ED-2025-SCC-0009]

Agency Information Collection Activities; Submission to the Office of Management and Budget for Review and Approval; Comment Request; GEAR UP Application Packages for Partnership and State Grants (1894-0001)

AGENCY: Office of Postsecondary Education (OPE), Department of Education (ED).

ACTION: Notice.

SUMMARY: In accordance with the Paperwork Reduction Act (PRA) of 1995, the Department is proposing a reinstatement without change of a previously approved information collection request (ICR).

DATES: Interested persons are invited to submit comments on or before May 14, 2025.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Ben Witthoefft, (202) 453-7576.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: GEAR UP Application Packages for Partnership and State Grants (1894-0001).

OMB Control Number: 1840-0821.

Type of Review: Reinstatement without change of a previously approved ICR.

Respondents/Affected Public: State, Local, and Tribal Governments.

Total Estimated Number of Annual Responses: 156.

Total Estimated Number of Annual Burden Hours: 8,816.

Abstract: The purpose of the GEAR UP partnership and state applications is to allow partnerships and states to apply for funding under the GEAR UP program. We are requesting a reinstatement without change of the previously approved GEAR UP applications (OMB number 1840-0821). This discretionary grant program falls under the streamlined grant process, 1894-0001, which waives the 60-day comment period.

Ross Santy,
Chief Data Officer, Office of Planning, Evaluation and Policy Development.

[FR Doc. 2025-06281 Filed 4-11-25; 8:45 am]

BILLING CODE 4000-01-P